SECURITIES AND EXCHANGE COMMISSION

[Release No. 34-68058; File No. SR-Phlx-2012-123]

Self-Regulatory Organizations; NASDAQ OMX PHLX LLC; Notice of Filing and Immediate Effectiveness of Proposed Rule Change To Assess a Monthly Fee for Subscription to the QView Service

October 16, 2012.

Pursuant to Section 19(b)(1) of the Securities Exchange Act of 1934 (“Act”),¹ and Rule 19b-4 thereunder,² notice is hereby given that on October 9, 2012, NASDAQ OMX PHLX LLC (“PHLX” or “Exchange”) filed with the Securities and Exchange Commission (“Commission”) a proposed rule change as described in Items I and II below, which Items have been prepared by the Exchange. The Commission is publishing this notice to solicit comments on the proposed rule change from interested persons.

¹ 15 U.S.C. 78s(b)(1).

² 17 CFR 240.19b-4.

I. Self-Regulatory Organization's Statement of the Terms of the Substance of the Proposed Rule Change

PHLX proposes to modify its fee schedule concerning NASDAQ OMX PSX fees to assess a monthly fee for subscription to the QView service. The Exchange is proposing to implement the proposed fee beginning on October 15, 2012. The text of the proposed rule change is available at http://nasdaqomxphlx.cchwallstreet.com, at PHLX's principal office, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item III [sic] below. The Exchange has prepared summaries, set forth in sections A, B, and C below, of the most significant parts of such statements.

A. Self-Regulatory Organization's Statement of the Purpose of, and Statutory Basis for, the Proposed Rule Change

1. Purpose

The Exchange is proposing to adopt a fee of $100 per month, per member firm for subscription to the new QView service. The Exchange recently introduced the QView service, a web-based, front-end application that provides a subscribing member firm with increased transparency over its trading activity on the Exchange by allowing the member firm to track its Exchange order flow.³ The Exchange is proposing to implement the proposed fee on October 15, 2012.

³ See Securities Exchange Act Release No. 67951 (October 1, 2012), 77 FR 61039 (October 5, 2012) (SR-Phlx-2012-114) (adopting the QView Service on PHLX).

PHLX notes that QView is currently offered by its sister exchange, The NASDAQ Stock Market LLC for a fee of $600 per month, per member firm.⁴ PHLX's QView service is identical to that of NASDAQ, yet offered at a lower monthly subscription fee of $100 per month, per member firm. The Exchange determined to assess a lower fee than the NASDAQ service based on the lower volume of trading on the Exchange's equities market, NASDAQ OMX PSX (“PSX”) and, hence, less data provided by PHLX QView as compared to NASDAQ QView.⁵ As noted in adopting PHLX QView, a subscriber must also subscribe to Tradeinfo PSX to subscribe to PHLX QView.⁶

⁴ See NASDAQ Rule 7058.

⁵ Member firms are assessed an initial monthly subscription fee prorated for the remainder of the month subscribed.

⁶ Supra note 3.

2. Statutory Basis

The Exchange believes the proposed rule change is consistent with Section 6(b)(4) of the Act ⁷ in that it provides for the equitable allocation of reasonable dues, fees and other charges among members and issuers and other persons using any facility or system which the Exchange operates or controls, and it does not unfairly discriminate between customers, issuers, brokers or dealers. The Exchange believes that the proposed fee is equitable and not unfairly discriminatory because member firms that voluntarily elect to subscribe to this service will be charged the same fee. QView provides subscribing member firms with a top down view of their trading activity on the Exchange and the proposed fee is assessed on a per member firm basis. The value of QView to a subscribing member firm is the convenience of aggregating and displaying the firm's data in a single interface regardless of the amount of data (executions, open orders, etc.) or the number of MPIDs that the firm has. In this regard, the Exchange notes that the number of MPIDs that a subscribing member firm possesses is not indicative of quantity and value of the data provided by QView. In many cases, a firm with a single MPID may in fact have more data than a firm with multiple MPIDs. As such, the Exchange believes that it is equitable to assess the fee on a per firm basis, as opposed to a per MPID basis. The Exchange also believes that the proposed fee does not unfairly discriminate because it is available to all member firms on equal terms and there is no differentiation among member firms in regard to the fee assessed to subscribers. In addition, the Exchange believes that it is not unfair discrimination to limit the service to broker-dealers that are members of the Exchange because it provides information solely concerning a subscribing member firm's trading activity on the Exchange.

⁷ 15 U.S.C. 78f(b)(4).

The Exchange determined that the proposed fee is reasonable based on member firm interest in QView, costs associated with developing and supporting QView, and the value that QView provides to subscribing member firms. The information provided by QView relates to the subscribing member firm's activity on the Exchange and the member firm may access and aggregate this information by other means, including its own internal systems. As such, the Exchange believes that if a member firm determines that the fee is not cost-efficient for its needs, it may decline to subscribe to QView and access such information from other sources. Finally, the maximum fee for a member that elects to subscribe to this service, regardless of the number of MPIDs held by the firm, is $100 per month. Subscription to QView is per member firm, therefore a firm must subscribe only once to QView to receive the service for as many of its MPIDs as it wishes.

B. Self-Regulatory Organization's Statement on Burden on Competition

The Exchange does not believe that the proposed rule change will result in any burden on competition that is not necessary or appropriate in furtherance of the purposes of the Act, as amended.

C. Self-Regulatory Organization's Statement on Comments on the Proposed Rule Change Received From Members, Participants, or Others

Written comments were neither solicited nor received.

III. Date of Effectiveness of the Proposed Rule Change and Timing for Commission Action

Pursuant to Section 19(b)(3)(A)(ii) of the Act,⁸ the Exchange has designated this proposal as establishing or changing a due, fee, or other charge imposed by the self-regulatory organization on any person, whether or not the person is a member of the self-regulatory organization, which renders the proposed rule change effective upon filing.

⁸ 15 U.S.C. 78s(b)(3)(A)(ii).

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views and arguments concerning the foregoing, including whether the proposed rule change is consistent with the Act. Comments may be submitted by any of the following methods:

Electronic Comments

• Use the Commission's Internet comment form (http://www.sec.gov/rules/sro.shtml ); or

• Send an email to rule-comments@sec.gov. Please include File Number SR-Phlx-2012-123 on the subject line.

Paper Comments

• Send paper comments in triplicate to Elizabeth M. Murphy, Secretary, Securities and Exchange Commission, 100 F Street NE., Washington, DC 20549.

All submissions should refer to File Number SR-Phlx-2012-123. This file number should be included on the subject line if email is used. To help the Commission process and review your comments more efficiently, please use only one method. The Commission will post all comments on the Commission's Internet Web site (http://www.sec.gov/rules/sro.shtml ). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the principal office of the Exchange. All comments received will be posted without change; the Commission does not edit personal identifying information from submissions. You should submit only information that you wish to make available publicly. All submissions should refer to File Number SR-Phlx-2012-123 and should be submitted on or before November 13, 2012.

For the Commission, by the Division of Trading and Markets, pursuant to delegated authority.⁹
⁹ 17 CFR 200.30-3(a)(12).
Kevin M. O'Neill,
Deputy Secretary.

[FR Doc. 2012-25866 Filed 10-19-12; 8:45 am]

BILLING CODE 8011-01-P